DEPARTMENT OF COMMERCE

Foreign-Trade Zones Board

[B-51-2025]

Foreign-Trade Zone (FTZ) 189, Notification of Proposed Production Activity; Plascore, Incorporated; (Metal, Aramid Paper and Plastic Honeycomb); Zeeland, Michigan

The Kent-Ottawa-Muskegon Foreign-Trade Zone, grantee of FTZ 189, submitted a notification of proposed production activity to the FTZ Board (the Board) on behalf of Plascore, Incorporated (Plascore) for Plascore's facilities in Zeeland, Michigan within Subzone 189I. The notification conforming to the requirements of the Board's regulations (15 CFR 400.22) was received on December 8, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: polypropylene expanded honeycomb; polycarbonate expanded honeycomb; polypropylene expanded honeycomb with coating; meta aramid fiber expanded honeycomb; fiberglass expanded honeycomb; para aramid fiber expanded honeycomb; fiberglass corrugated honeycomb; commercial alloy aluminum honeycomb (expanded and unexpanded); 5000 series alloy aluminum honeycomb (expanded and unexpanded); 5000 series alloy aluminum corrugated honeycomb; stainless steel honeycomb (expanded and unexpanded); aluminum extrusion assembly; aluminum extruded angles, tubes, bars, and channels; heat curable epoxy resin curing agent; steel fasteners; aluminum fasteners; rubber gasket and seals; aluminum doors, windows and their frames, window frames, and door frames; steel architectural components, such as beams, brackets, return air grilles; stainless steel architectural components; cold rolled steel bars, plates, rods, sheets, and strips; composite panel consisting of phenolic skins and aramid honeycomb; composite panel for rail car applications consisting of aluminum/melamine skins and aluminum honeycomb; composite panel for rail car applications consisting of high pressure laminate skins and aluminum honeycomb; composite panel for rail car applications consisting of aluminum/melamine skins and plywood core; composite panel for rail car applications consisting of aluminum/melamine and stainless steel skins and plywood core; composite panel consisting of aluminum skins and aramid honeycomb; composite panel consisting of wood skins and plastic honeycomb; composite panel consisting of aluminum skins and aluminum honeycomb; composite panel consisting of wood skins and aluminum honeycomb; composite panel consisting of steel skins and aluminum honeycomb; composite panel consisting of aluminum skins and plastic honeycomb; composite panel consisting of carbon fiber skins and plastic honeycomb; composite panel consisting of carbon fiber skins and aluminum honeycomb; composite panel consisting of epoxy and fiberglass skins and aluminum honeycomb; composite panel consisting of epoxy and fiberglass skins and aramid honeycomb; composite panel consisting of high pressure laminate skins and polyisocyanurate foam; commercial alloy aluminum honeycomb with thermoset composite core splice; 5000 series alloy aluminum honeycomb with thermoset composite core splice; stainless steel honeycomb with thermoset composite core splice; and, fiberglass expanded honeycomb with thermoset composite core splice (duty rate ranges from duty-free to 6.5%).

The proposed foreign-status materials/components include: aluminum sheets (thickness exceeding 0.2mm: clad/not clad); aluminum extrusions C-channel; aluminum extrusions T-mold; stainless steel hinge assemblies; melamine-laminated aluminum (clad/not clad); mineral fiber insulation with pressure sensitive adhesive one side; aluminum automatic door bottom seals; stainless steel door hinges and assemblies; steel door handles, with spindle and handle and cylinder covers; stainless steel fabricated door hardware; epoxy syntactic foam; aluminum extrusions, custom profile; clear tempered glass; steel air transfer grills; foil aluminum 5052 alloy; foil aluminum 5056 alloy; foil aluminum commercial grade; felt products for rail applications, pressure sensitive adhesive on one side; stainless steel wood inserts (passivated); stainless steel door hinges; aluminum composite panel consisting of aluminum skins, aluminum honeycomb and stainless steel fasteners; stainless steel fasteners; pvc cold weld white, 132 gram tubes; polyolefin film carrier, siliconized on one side, acrylic adhesive one side; steel door latch sets for aluminum doors; wire mesh clip and joiner, stainless steel; thermoplastic sheets, natural chopped polypropylene/fiberglass; meta aramid paper; para aramid paper; stainless steel foil; polyester spunbond non-woven veil; natural fiber laminates; thermoplastic film adhesives; carbon fiber thermoplastic laminates; thermoplastic films; fiberglass laminates; polypropylene laminates; thermoplastic laminates; and, laminated birch plywood sheets (duty rate ranges from duty-free to 6.5%). The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41). The request also indicates that aluminum thin-gauge foil is subject to an antidumping/countervailing duty (AD/CVD) order/investigation if imported from certain countries. The Board's regulations (15 CFR 400.13(c)(2)) require that merchandise subject to AD/CVD orders, or items which would be otherwise subject to suspension of liquidation under AD/CVD procedures if they entered U.S. customs territory, be admitted to the zone in privileged foreign status.

Public comment is invited from interested parties. Submissions shall be addressed to the Board's Executive Secretary and sent to: ftz@trade.gov. The closing period for their receipt is January 21, 2026.

A copy of the notification will be available for public inspection in the “Online FTZ Information System” section of the Board's website.

For further information, contact Christopher Wedderburn at Chris.Wedderburn@trade.gov.

Dated: December 9, 2025.
Elizabeth Whiteman,
Executive Secretary.

[FR Doc. 2025-22617 Filed 12-11-25; 8:45 am]

BILLING CODE 3510-DS-P